DEPARTMENT OF STATE

[Public Notice Number: 6020]

Bureau of Democracy, Human Rights and Labor; Public Meeting of the Advisory Committee on Persons With Disabilities

SUMMARY: The Advisory Committee on Persons With Disabilities of the U.S. Department of State and the U.S. Agency for International Development will conduct its fifth public meeting on Monday, February 4, 2008 from 9 a.m. to 4 p.m. in the Ronald Reagan Building and International Trade Center, 1300 Pennsylvania Avenue, NW., Washington, DC 20004. For directions, see http://www.itcdc.com/index.php.

Attendees must have valid, government-issued identification, such as a Driver's License or passport, in order to enter the building. Attendees requiring reasonable accommodation should indicate their requirements one week prior to the event to Stephanie Ortoleva at ortolevas@state.gov.

The agenda of this meeting will include presentations by the following:

1. Eric Rosenthal, Executive Director, Mental Disability Rights International, will discuss MDRI reports on the situation of persons with mental disabilities in Serbia and in Argentina. The Serbia report can be found at: http://www.mdri.org/projects/serbia/Serbia-rep-english.pdf. The Argentina report can be found at: http://www.mdri.org/projects/americas/Argentina/MDRI.ARG.ENG.NEW.pdf.

2. Mary Keogh, International Coordinator, International Disability Rights Monitor, of the Center for International Rehabilitation, will discuss the Center's most recent report on the human rights situation of persons with disabilities in Europe. The European IDRM report can be found at: http://www.idrmnet.org/pdfs/IDRM_Europe_2007.pdf.

3. Ann Cody, Vice President for Government Affairs with B&D Consulting and a leader in the international sports movement, will discuss sports as a convening mechanism for promoting democracy, peace and human rights and leadership development for persons with disabilities.

4. Veda Engel, U.S. Department of State, Bureau of Human Resources, will discuss Department efforts to increase the recruitment of persons with disabilities.

5. Stephanie Ortoleva, Esq., U.S. Department of State, Bureau of Democracy, Human Rights and Labor, Foreign Affairs Officer and Advisory Committee Executive Director, will discuss her recent assessment trip to Morocco for a Department grant and to meet with disability groups. She will also discuss other Department activities with respect to the human rights of persons with disabilities.

6. Robert Horvath, Senior Technical Advisor, U.S. Agency for International Development, will give an update on USAID activities, including discussion of funding programs and examples of recent accomplishments and successes in integrating disability within USAID field programs.

7. The Advisory Committee will discuss its plans for the forthcoming year.

The Advisory Committee is made up of the Secretary of State, the Administrator of the U.S. Agency for International Development and an Executive Director (all ex officio members); and eight members from outside the United States Government: Senda Benaissa, Joni Eareckson Tada, Vail Horton, John Kemp, Albert H. Linden, Jr., Kathleen Martinez, John Register and James E. Vermillion.

Established on June 23, 2004, the Advisory Committee serves the Secretary and the Administrator in an advisory capacity with respect to the consideration of the interests of persons with disabilities in formulation and implementation of U.S. foreign policy and foreign assistance. The Committee is established under the general authority of the Secretary and the Department of State as set forth in Title 22 of the United States Code, sections 2656 and 2651a, and in accordance with the Federal Advisory Committee Act, as amended.

Dated: January 8, 2008.
Stephanie Ortoleva,
Department of State, Bureau of Democracy, Human Rights and Labor.

[FR Doc. E8-566 Filed 1-14-08; 8:45 am]

BILLING CODE 4710-18-P